DEPARTMENT OF TRANSPORTATION

Federal Aviation Administration

RTCA, Inc.; Government Industry Certification Steering Committee

Pursuant to section 10(a)(2) of the Federal Advisory Committee Act (Pub. L. 92-463, 5 U.S.C., Appendix 2), notice is hereby given for RTCA Government/Industry Certification Steering Committee meeting to be held August 11, 2000, from 10 a.m. to 1 p.m. The meeting will be held at Federal Aviation Administration (FAA), 800 Independence Avenue, SW., Washington, DC, 20591, in Conference Room 5ABC (5th Floor).

The agenda will include: (1) Welcome and Introductory Remarks: (a) Review Steering Committee Charter; (2) Certification Select Committee: (b) Objectives; (c) Membership and Attendance; (d) Six Months Task Update; (3) Work Plans: (e) Link to TF4 Recommendations; (f) Road Map; (g) Products—Select Committee, CAST, SOIT, Etc.; (h) End State for TF4 Recommendations; (I) Metrics; (4) Other Business; (5) Date and Location of Next Meeting; (6) Closing.

Attendance is open to the interested public but limited to space availability. With the approval of the co-chairmen, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on July 25, 2000.
Janice L. Peters.
Designated Official.

[FR Doc. 00-19535 Filed 8-1-00; 8:45 am]

BILLING CODE 4910-13-M